DEPARTMENT OF COMMERCE

Census Bureau

Agency Information Collection Activities; Submission to the Office of Management and Budget (OMB) for Review and Approval; Comment Request; EEO Initial Informal Complaint Contact Sheet Common Form

AGENCY: Census Bureau, Department of Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed new information collection—EEO Initial Informal Complaint Contact Sheet Common Form, prior to the submission of the information collection request (ICR) to OMB for approval.

DATES: To ensure consideration, comments regarding this proposed information collection must be received on or before May 30, 2025.

ADDRESSES: Interested persons are invited to submit written comments by email to eeo.general.mailbox@census.gov. Please reference EEO Initial Informal Complaint Contact Sheet Common Form in the subject line of your comments. You may also submit comments, identified by Docket Number USBC-2024-0033, to the Federal e-Rulemaking Portal: https://www.regulations.gov. All comments received are part of the public record. No comments will be posted to https://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to David Donovan, Director, Office of Equal Employment Opportunity (301) 763-2853 or (800) 872-6096, or by email at eeo.general.mailbox@census.gov.

SUPPLEMENTARY INFORMATION:

I. Abstract

U.S. Census Bureau employees, former employees, and applicants may contact the agency's Office of Equal Employment Opportunity (EEO) if they believe they have been subjected to discrimination based on race, religion, color, sex, pregnant/pregnant workers (limitations related to pregnancy, childbirth or related medical conditions), national origin, age (40 or older), genetic information (including family medical history), disability (mental or physical) or retaliation/reprisal. A Census Bureau EEO staff member responsible for obtaining information regarding the allegation(s) of discrimination will record on the Initial Informal Complaint Contact Sheet (Intake Form) the aggrieved party's (“the aggrieved”) personal information, i.e., name, address, telephone numbers, etc., as well as the basis(es) and allegation(s) raised by the aggrieved. Thereafter, an EEO Counselor will be assigned to review the information on the Intake Form and contact the aggrieved to schedule an initial interview. This interview may include but is not limited to: verifying the information on the Intake Form, clearly defining the basis(es) and allegation(s), reviewing the rights and responsibilities of the aggrieved and the agency during the EEO complaint process including the right to representation and anonymity, informing the aggrieved of the applicable time frames, and advising the aggrieved of the availability of Alternative Dispute Resolution (ADR) and EEO counseling, and the overall stages of the complaint process.

Title 29 of the United States Code of Federal Regulations (CFR) part 1614, directs agencies to maintain a continuing program to promote equal opportunity and to identify and eliminate discriminatory policies, practices, or procedures. The Census Bureau is thus required to process complaints of employment discrimination from agency employees, former employees, and applicants for employment with the agency who allege discrimination based on their membership in a protected class, such as, race, religion, color, sex, pregnant/pregnant workers (limitations related to pregnancy, childbirth or related medical conditions), national origin, age (40 or older), genetic information (including family medical history), disability (mental or physical) or retaliation/reprisal for engaging in prior protected activity. Federal agencies must offer pre-complaint “informal” counseling and/or Alternative Dispute Resolution (ADR) to these “aggrieved individuals” (the aggrieved), alleging discrimination by officials of the agency. If the complaint is not resolved during the informal process, the Census Bureau must issue the Notice of Right to File within 15 calendar days document to the aggrieved. This information is being collected for the purpose of processing informal complaints of employment discrimination against the agency on the bases of race, religion, color, sex, pregnant/pregnant workers (limitations related to pregnancy, childbirth or related medical conditions), national origin, age (40 or older), genetic information (including family medical history), disability (mental or physical) or retaliation/reprisal. Pursuant to 29 CFR 1614.105, the aggrieved must participate in pre-complaint counseling to try to informally resolve their complaint prior to filing a formal complaint of discrimination. The information captured on the form will be reviewed by the EEO Counselor assigned to process the informal complaint of alleged discrimination within the parameters established in 29 CFR part 1614. The Initial Informal Complaint Contact Sheet (Form BC-3006(ef)) will be hosted by the Census Bureau as a Common Form.

II. Method of Collection

Email.

III. Data

OMB Control Number: 0607-XXXX.

Form Number(s): BC-3006(ef).

Type of Review: Regular submission, New Information Collection Request.

Affected Public: Federal government employees, former employees, and applicants.

Estimated Number of Respondents: 1 to 15.

Estimated Time per Response: 3 minutes to 30 minutes.

Estimated Total Annual Burden Hours: 25.

Estimated Total Annual Cost to Public: $0 (This is not the cost of respondents' time, but the indirect costs respondents may incur for such things as purchases of specialized software or hardware needed to report, or expenditures for accounting or records maintenance services required specifically by the collection.)

Respondent's Obligation: Voluntary (The aggrieved individual does not have to fill the form out; they can call the office or send an email to the EEO complaints mailbox). However, responses to the form are needed to collect and review the Complainant's data to input the information in the Entellitrak (Complaint Tracking System) and for processing.

Legal Authority: Title 29 CFR part 1614.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-05459 Filed 3-28-25; 8:45 am]

BILLING CODE 3510-07-P